SECURITIES AND EXCHANGE COMMISSION

Sunshine Act Meeting; Cancellation

FEDERAL REGISTER CITATION OF PREVIOUS ANNOUNCEMENT: 90 FR 10544, February 20, 2025.

PREVIOUSLY ANNOUNCED TIME AND DATE OF THE MEETING: Wednesday, February 26, 2025, at 10:00 a.m.

CHANGES IN THE MEETING: The Open Meeting scheduled for Wednesday, February 26, 2025 at 10:00 a.m. has been cancelled.

CONTACT PERSON FOR MORE INFORMATION: For further information; please contact Vanessa A. Countryman from the Office of the Secretary at (202) 551-5400.

Authority: 5 U.S.C. 552b.

Dated: February 25, 2025.
Vanessa A. Countryman,
Secretary.

[FR Doc. 2025-03352 Filed 2-26-25; 11:15 am]

BILLING CODE 8011-01-P